DEPARTMENT OF TRANSPORTATION

Federal Aviation Administration

14 CFR Parts 61, 121, 135, 141, and 142

[Docket No.: FAA-2010-0100; Amdt. Nos. 61-130; 121-365; 135-127; 141-1; 142-9]

RIN 2120-AJ67

Pilot Certification and Qualification Requirements for Air Carrier Operations

Correction

In rule document 2013-16849 beginning on page 42324 in the issue of Monday, July 15, 2013, make the following correction:

On page 42326, in Table 1, the table section beneath the heading “Scenario: (3) Serve as an SIC (first officer) in part 121 operations” should read as follows:

Scenario:

(3) Serve as an SIC (first officer) in part 121 operations

Previous requirements | Requirements in final rule
Hold: | Hold:
(1) At least a commercial pilot certificate with an appropriate category and class rating; (2) An instrument rating; and | (1) An ATP certificate with appropriate aircraft type rating OR—An ATP certificate with restricted privileges and an appropriate aircraft type rating; and
(3) At least a second-class medical certificate. | (2) At least a second-class medical certificate.
| (Ref. §§ 121.436 and 61.23).

[FR Doc. C1-2013-16849 Filed 7-25-13; 8:45 am]

BILLING CODE 1505-01-D